DEPARTMENT OF TRANSPORTATION

National Highway Traffic Safety Administration

Notice of Public Meeting and Request for Comments To Address the Development of a Booster Seat Education Plan; Correction

AGENCY: National Highway Traffic Safety Administration, Department of Transportation.

ACTION: Notice; correction.

SUMMARY: The National Highway Traffic Safety Administration published a document in the Federal Register of June 6, 2001, concerning notice of public meeting and request for comments to address the development of a booster seat education plan. The document was incorrectly published as a Proposed Rule. It should have been published as a Notice because it will not lead to Rulemaking. The document also contained incorrect dates.

FOR FURTHER INFORMATION CONTACT: Tami Levitas, NHTSA, 202-366-0652.

Correction

1. In the Federal Register of June 6, 2001, in (66 FR 30366) (Docket NHTSA-01-9785), on page 30367, in the first column, second paragraph, correct the “Dates” caption to read:

DATES: * * * Written Comments: Written requests to speak at the public meeting and/or suggestions for items to be included in the meeting agenda, should be received at Docket Management at the below address no later than July 3, 2001. Comments to be submitted for the public record should be received at Docket Management at the below address no later than July 13, 2001.

2. In the Federal Register of June 6, 2001, in (66 FR 30366) (Docket NHTSA-01-9785), on page 30367, correct the third column, paragraph after question 12, first sentence, of the “Supplementary Information” caption to read:

If you wish to make a presentation at the meeting, please contact Tami Levitas at the above mailing address or telephone number by July 3, 2001.

Dated: June 15, 2001.
Rose A. McMurray,
Associate Administrator for Traffic Safety Programs.

[FR Doc. 01-15603 Filed 6-20-01; 8:45 am]

BILLING CODE 4910-59-M